INTERNATIONAL TRADE COMMISSION

[Investigation No. 731-TA-410 (Third Review)]

Light-Walled Rectangular Pipe and Tube From Taiwan

Determination

On the basis of the record ¹ developed in the subject five-year review, the United States International Trade Commission (Commission) determines, pursuant to section 751(c) of the Tariff Act of 1930 (19 U.S.C. 1675(c)), that revocation of the antidumping duty order on light-walled rectangular pipe and tube from Taiwan would be likely to lead to continuation or recurrence of material injury to an industry in the United States within a reasonably foreseeable time.

¹ The record is defined in sec. 207.2(f) of the Commission's Rules of Practice and Procedure (19 CFR 207.2(f)).

Background

The Commission instituted this review on July 1, 2011 (76 FR 38691) and determined on October 4, 2011 that it would conduct an expedited review (76 FR 64105, October 17, 2011).

The Commission transmitted its determination in this review to the Secretary of Commerce on January 17, 2012. The views of the Commission are contained in USITC Publication 4301 (January 2012), Light-Walled Rectangular Pipe and Tube from Taiwan (Inv. No. 731-TA-410 (Third Review)).

By order of the Commission.
Issued: January 18, 2012.
James R. Holbein,
Secretary to the Commission.

[FR Doc. 2012-1301 Filed 1-23-12; 8:45 am]

BILLING CODE 7020-02-P